SECURITIES AND EXCHANGE COMMISSION

[Release No. 34-69829A; File No. SR-PHLX-2013-65]

Self-Regulatory Organizations; Notice of Filing of Proposed Rule Change Relating To Which Complex Orders Can Initiate a Complex Order Live Auction; Correction

June 21, 2013.

AGENCY: Securities and Exchange Commission.

ACTION: Notice; correction.

SUMMARY: The Securities and Exchange Commission published a document in the Federal Register of June 27, 2013 concerning a Notice of Filing of Proposed Rule Change Relating to Which Complex Orders Can Initiate a Complex Order Live Auction. The document was dated incorrectly.

FOR FURTHER INFORMATION CONTACT: Charles Sommers, Division of Trading and Markets, Securities and Exchange Commission, 100 F Street NE., Washington, DC 20549, (202) 551-5787.

Correction

In the Federal Register of June 27, 2013, in FR Doc. 2013-15370, on page 38750, in the 27th line of the third column, the date is corrected to read as noted above.

Kevin M. O'Neill,
Deputy Secretary.

[FR Doc. 2013-19511 Filed 8-12-13; 8:45 am]

BILLING CODE 8011-01-P